DEPARTMENT OF TRANSPORTATION

Federal Aviation Administration

Thirty-Seventh Meeting: RTCA Special Committee (224) Airport Security Access Control Systems

AGENCY: Federal Aviation Administration (FAA), U.S. Department of Transportation (DOT).

ACTION: Notice of Thirty-Seventh RTCA Special Committee 224 meeting.

SUMMARY: The FAA is issuing this notice to advise the public of the Thirty-Seventh RTCA Special Committee 224 meeting.

DATES: The meeting will be held December 11th from 10:00 a.m.-3:00 p.m.

ADDRESSES: The meeting will be held at RTCA, Inc., 1150 18th Street NW., Suite 910, Washington, DC 20036, Tel: (202) 330-0680.

FOR FURTHER INFORMATION CONTACT: The RTCA Secretariat, 1150 18th Street NW., Suite 910, Washington, DC 20036, or by telephone at (202) 833-9339, fax at (202) 833-9434, or Web site at http://www.rtca.org or Karan Hofmann, Program Director, RTCA, Inc., khofmann@rtca.org, (202) 330-0680.

SUPPLEMENTARY INFORMATION: Pursuant to section 10(a)(2) of the Federal Advisory Committee Act (Pub. L. 92-463, 5 U.S.C., App.), notice is hereby given for a meeting of RTCA Special Committee 224. The agenda will include the following:

Friday, December 11, 2015

1. Welcome/Introductions/Administrative Remarks

2. Review/Approve Previous Meeting Summary

3. Report from the TSA

4. Report on Safe Skies on Document Distribution

5. Report on TSA Security Construction Guidelines progress

6. Review of DO-230G Sections

7. Action Items for Next Meeting

8. Time and Place of Next Meeting

9. Any Other Business

10. Adjourn

Attendance is open to the interested public but limited to space availability. With the approval of the chairman, members of the public may present oral statements at the meeting. Plenary information will be provided upon request. Persons wishing to present statements or obtain information should contact the person listed in the FOR FURTHER INFORMATION CONTACT section. Members of the public may present a written statement to the committee at any time.

Issued in Washington, DC, on November 10, 2015.
Latasha Robinson,
Management & Program Analyst, Next Generation, Enterprise Support Services Division, Federal Aviation Administration.

[FR Doc. 2015-29389 Filed 11-17-15; 8:45 am]

BILLING CODE 4910-13-P